DEPARTMENT OF LABOR

Employment and Training Administration

[TA-W-57,732]

Microtek Medical, a Subsidiary of Microtek Medical Holdings, Inc., Columbus, MS; Amended Certification Regarding Eligibility To Apply for Worker Adjustment Assistance and Negative Determination Regarding Eligibility To Apply for Alternative Trade Adjustment Assistance

In accordance with Section 223 of the Trade Act of 1974 (19 U.S.C. 2273), and Section 246 of the Trade Act of 1974, (26 USA 2813), as amended, the Department of Labor issued a Certification of Eligibility to Apply for Worker Adjustment Assistance and Negative Determination Regarding Eligibility to Apply for Alternative Trade Adjustment Assistance on September 9, 2005, applicable to workers of Microtek Medical, a subsidiary of Microtek Medical Holdings, Inc., Columbus, Mississippi. The notice was published in the Federal Register on October 6, 2005 (70 FR 58478).

At the request of the State agency, the Department reviewed the certification for workers of the subject firm. The workers are engaged in the production of sterile drapes and covers for microscopes, cameras and patients and are not separately identifiable by product line.

New findings show that there was a previous certification, TA-W-42,178, issued on October 28, 2002, for workers of Microtek Medical, a subsidiary of Microtek Medical Holdings, Inc., Columbus, Mississippi who were engaged in employment related to the production of disposable medical drapes. That certification expired October 28, 2004. To avoid an overlap in worker group coverage, the certification is being amended to change the impact date from August 12, 2004 to October 29, 2004, for workers of the subject firm.

The amended notice applicable to TA-W-57,732 is hereby issued as follows:

All workers of Microtek Medical, Inc., a subsidiary of Microtek Medical Holdings, Inc., Columbus, Mississippi, who became totally or partially separated from employment on or after October 29, 2004, through September 9, 2007, are eligible to apply for adjustment assistance under Section 223 of the Trade Act of 1974. I further determine that all workers of Microtek Medical, Inc., a subsidiary of Microtek Medical Holdings, Inc., Columbus, Mississippi are denied eligibility to apply for alternative trade adjustment assistance under Section 246 of the Trade Act of 1974.

Signed at Washington, DC this 6th day of October, 2005.
Richard Church,
Certifying Officer, Division of Trade Adjustment Assistance.

[FR Doc. E5-5885 Filed 10-24-05; 8:45 am]

BILLING CODE 4510-30-P